DEPARTMENT OF COMMERCE

International Trade Administration

Notice of Scope Rulings

AGENCY: Import Administration, International Trade Administration, Department of Commerce.

EFFECTIVE DATE: November 5, 2007.

SUMMARY: The Department of Commerce (“Department”) hereby publishes a list of scope rulings completed between July 1, 2007, and September 30, 2007. In conjunction with this list, the Department is also publishing a list of requests for scope rulings and anticircumvention determinations pending as of September 30, 2007. We intend to publish future lists after the close of the next calendar quarter.

FOR FURTHER INFORMATION CONTACT: Juanita H. Chen, AD/CVD Operations, SEC Office, Import Administration, International Trade Administration, U.S. Department of Commerce, 14th Street and Constitution Avenue, N.W., Washington, DC 20230; telephone: 202-482-1904.

SUPPLEMENTARY INFORMATION:

Background

The Department's regulations provide that the Secretary will publish in the Federal Register a list of scope rulings on a quarterly basis. See 19 C.F.R. 351.225(o). Our most recent notification of scope rulings was published on August 3, 2007. See Notice of Scope Rulings, 72 FR 43245 (August 3, 2007). This current notice covers all scope rulings and anticircumvention determinations completed by Import Administration between July 1, 2007, and September 30, 2007, inclusive, and it also lists any scope or anticircumvention inquiries pending as of September 30, 2007. As described below, subsequent lists will follow after the close of each calendar quarter.

Scope Rulings Completed Between July 1, 2007, and September 30, 2007:

Japan

A-588-702: Stainless Steel Butt-Weld Pipe Fittings from Japan

Requestor: Kuze Bellows Kogyosho Co., Ltd.; certain “Kuze Clean Fittings” with actual wall thicknesses above 3.4925 mm are included within the scope of the antidumping order; certain “Kuze Clean Fittings” with actual wall thicknesses at or below 3.4925 mm are not within the scope of the antidumping order; July 26, 2007.

A-588-804: Ball Bearings and Parts Thereof from Japan

Requestor: Toyota Tsusho America Inc.; its steel balls used in automobile vents are not within the scope of the antidumping order; August 29, 2007.

People's Republic of China

A-570-504: Petroleum Wax Candles from the People's Republic of China

Requestor: Wedding Brand Investors LLC; white or ivory pillars and tapers are within the scope of the antidumping duty order; September 24, 2007.

A-570-504: Petroleum Wax Candles from the People's Republic of China

Requestor: Enchante Accessories, Inc.; its palm oil wax candle is within the scope of the antidumping duty order; September 27, 2007.

A-570-901: Lined Paper Products from the People's Republic of China

Requestor: Bond Street Ltd.; padfolios containing one writing tablet (or pad of paper) with a cover are not within the scope of the antidumping duty order; July 16, 2007.

A-570-904: Activated Carbon from the People's Republic of China

Requestor: Cherishment, Inc.; carbon activated by the hydro-thermal catalytic chemical activation process protected by U.S. Patent No. 6,858,192 (“192 patent HTCC product”) is within the scope of the antidumping duty order; July 26, 2007.

Anticircumvention Determinations Completed Between July 1, 2007, and September 30, 2007:

None.

Scope Inquiries Terminated Between July 1, 2007, and September 30, 2007:

None.

Anticircumvention Inquiries Terminated Between July 1, 2007, and September 30, 2007:

None.

Scope Inquiries Pending as of September 30, 2007:

Italy

A-475-703: Granular Polytetrafluoroethylene Resin from Italy

Requestor: Petitioner, E.I. DuPont de Nemours & Company; whether imports of Polymist[reg] feedstock produced by the respondent Solvay Solexis, Inc. and Solvay Solexis S.p.A are within the scope of the antidumping duty order; requested August 18, 2006; initiated October 2, 2006; preliminary ruling July 2, 2007.

People's Republic of China

A-570-502: Iron Construction Castings from the People's Republic of China

Requestor: A.Y. McDonald Mfg. Co.; whether cast iron lids and bases independently sourced from the PRC for its “Arch Pattern” and “Minneapolis Pattern” curb boxes are included within the scope of the antidumping duty order; requested April 2, 2007.

A-570-504: Petroleum Wax Candles from the People's Republic of China

Requestor: Lamplight Farms, Inc.; whether its Tiki Mosquito Candle is included within the scope of the antidumping duty order; requested August 6, 2007.

A-570-803: Heavy Forged Hand Tools, With or Without Handles from the People's Republic of China

Requestor: Fiskars Brands, Inc.; whether a stamped machete, gator machete, and brush axe are included within the scope of the antidumping duty order; requested June 26, 2007.

A-570-827: Cased Pencils from the People's Republic of China

Requestor: Walgreen Co.; whether the “Artskills™ Draw & Sketch Kit” is included within the scope of the antidumping duty order; requested May 25, 2007.

A-570-827: Cased Pencils from the People's Republic of China

Requestor: Walgreen Co.; whether the “Artskills™ Stencil Kit” is included within the scope of the antidumping duty order; requested May 25, 2007.

A-570-827: Cased Pencils from the People's Republic of China

Requestor: The Smencil Company; whether its not yet scent applied newspaper pencils are included within the scope of the antidumping duty order; requested July 5, 2007.

A-570-848: Freshwater Crawfish Tailmeat from the People's Republic of China

Requestor: Maritime Products International; whether breaded crawfish tailmeat is included within the scope of the antidumping duty order; requested November 8, 2006; initiated December 18, 2006.

A-570-864: Pure Magnesium in Granular Form from the People's Republic of China

Requestor: ESM Group Inc.; whether atomized ingots are included within the scope of the antidumping duty order; original scope ruling rescinded and vacated April 18, 2007 ¹; initiated April 18, 2007.

¹ See “Scope Inquiries Terminated Between April 1, 2007 and June 30, 2007” section, above.

A-570-866: Folding Gift Boxes from the People's Republic of China

Requestor: Footstar; whether certain boxes for business cards and forms are included within the scope of the antidumping duty order; requested April 26, 2007.

A-570-866: Folding Gift Boxes from the People's Republic of China

Requestor: Hallmark Cards, Inc.; whether its “FunZip” gift presentation is included within the scope of the antidumping duty order; requested June 1, 2007.

A-570-868: Folding Metal Tables and Chairs from the People's Republic of China

Requestor: International E-Z Up, Inc.; whether its Instant Work Bench is included within the scope of the antidumping duty order; requested April 6, 2007.

A-570-875: Non-Malleable Cast Iron Pipe Fittings from the People's Republic of China

Requestor: Taco Inc.; whether black cast iron flange, green ductile iron flange and cast iron “Twin Tee” are included within the scope of the antidumping duty order; requested September 6, 2007.

A-570-882: Refined Brown Aluminum Oxide from the People's Republic of China

Requestor: 3M Company; whether certain semi-friable and heat-treated, specialty aluminum oxides are within the scope of the antidumping duty order; requested September 19, 2006; initiated January 17, 2007.

A-570-886: Polyethylene Retail Carrier Bags from the People's Republic of China

Requestor: Asia Dynamics, Inc.; whether certain hospital patient belongings bags (model nos. 304211, 304311, 304411, 304611, 304711, 304811, 40219, 40229) are included within the scope of the antidumping duty order; requested May 23, 2007.

A-570-886: Polyethylene Retail Carrier Bags from the People's Republic of China

Requestor: DMS Holdings, Inc.; whether certain MABIS Healthcare hospital bags (biohazard disposal bag nos. 75-860-010, 75-860-080, 75-864-080; isolation bag no. 75-850-000; patient set-up bag nos. 75-833-000, 75-842-000, 75-970-550, 75-973-550, 75-979-550; personal belongings bag nos. 75-010-850, 75-011-850, 75-013-850, 75-014-850, 75-019-850, 75-032-850, 75-033-850, 75-036-850, 75-037-850, 75-038-850, 75-046-850, 75-047-850, 75-075-850, 75-105-850, 75-109-850, 75-110-850, 75-111-850, 75-117-850, 75-118-850, 75-120-850, 75-834-000, 75-838-000, 75-839-000, 75-844-000, 75-845-000, 75-847-000; kit packing bag nos.75-801-000, 75-802-000, 75-803-000, 75-804-000, 75-862-000, 75-863-000, 75-865-000) are included within the scope of the antidumping duty order; requested June 8, 2007.

A-570-886: Polyethylene Retail Carrier Bags from the People's Republic of China

Requestor: Medline Industries, Inc.; whether certain hospital patient belongings bags and surgical kit bags (drawstring bags model nos. DS500C, DS400C, DONDS600, 38667, 7510, 42818, 25117, 28614, 42817; rigid handle bag model no. 26900) are included within the scope of the antidumping duty order; requested June 18, 2007.

A-570-886: Polyethylene Retail Carrier Bags from the People's Republic of China

Requestor: Majestic International; whether certain polyethylene gift bags (UPC codes starting with 8-51603- and ending with: 00002-3, 00004-7, 00140-2, 00141-9, 00142-6, 00041-2, 00040-5, 00052-8, 00059-7, 00066-5, 00068-9, 00071-9, 00072-6, 00075-7, 00076-4, 00092-4, 00093-1, 00094-8, 00098-6, 00131-0, 00132-7, 00133-4, 00144-0, 00145-7, 00152-5, 00153-2, 00155-6, 00156-3, 00160-0, 00163-1, 00165-5, 00166-2, 00175-4, 00176-1, 00181-5, 00183-9, 00226-3, 00230-0, 00231-7, 00246-1, 00251-5, 00252-2, 00253-9, 00254-6, 00255-3, 00256-0, 00257-7, 00259-1, 00260-7, 00262-1, 00263-8, 00300-0, 00301-7, 00302-4, 00303-1, 00305-5, 00306-2, 00307-9, 00308-6, 00309-3, 00350-5, 00351-2, 00352-9, 00353-6, 00354-3, 00355-0, 00356-7, 00357-4, 00358-1) are included within the scope of the antidumping duty order; requested June 2, 2007.

A-570-890: Wooden Bedroom Furniture from the People's Republic of China

Requestor: AP Industries; whether convertible cribs (model nos. 1000-0100; 1000-0125; 1000-0160; 1000-1195/2195; 1000-2145; and 1000-2165) are included within the scope of the antidumping duty order; requested June 26, 2007.

A-570-890: Wooden Bedroom Furniture from the People's Republic of China

Requestor: Dutailier Group, Inc.; whether its convertible cribs (infant crib to toddler bed; model numbers 1230C8, 3500C8, 5400C8, 5500C8, and 6200C8) are included within the scope of the antidumping duty order; requested September 21, 2007.

A-570-890: Wooden Bedroom Furniture from the People's Republic of China

Requestor: Armel Enterprises, Inc.; whether certain children's playroom and accent furniture are included within the scope of the antidumping duty order; requested September 24, 2007.

A-570-891: Hand Trucks from the People's Republic of China

Requestor: Northern Tool & Equipment Co.; whether a high-axle torch cart (item #164771) is included within the scope of the antidumping duty order; requested March 27, 2007.

A-570-891: Hand Trucks from the People's Republic of China

Requestor: WelCom Products, Inc.; whether its “miniature” Magna Cart is included within the scope of the antidumping duty order; requested August 20, 2007.

A-570-898: Chlorinated Isocyanurates from the People's Republic of China

Requestor: BioLab, Inc.; whether chlorinated isocyanurates originating in the People's Republic of China, that are packaged, tableted, blended with additives, or otherwise further processed in Canada before entering the U.S., are included within the scope of the antidumping duty order; requested November 22, 2006; initiated March 9, 2007.

A-570-898: Chlorinated Isocyanurates from the People's Republic of China

Requestor: BioLab, Inc.; whether chlorinated isocyanurates originating in the People's Republic of China, that are packaged, tableted, blended with additives, or otherwise further processed in Vietnam before entering the U.S., are included within the scope of the antidumping duty order; requested August 15, 2007.

A-570-899: Artist Canvas from the People's Republic of China

Requestor: Tara Materials, Inc.; whether artist canvas purchased in the U.S. that has been woven, primed with gesso, and cut to size in the U.S. and shipped to the PRC for assembling (i.e., wrapping and stapling to the wooden frame) and returned to the U.S. are included within the scope of the antidumping duty order; requested July 23, 2007.

A-570-901: Lined Paper Products from the People's Republic of China

Requestor: Lakeshore Learning Materials; whether certain printed educational materials, product numbers RR973 and RR974 (Reader's Book Log); GG185 and GG186 (Reader's Response Notebook); GG181 and GG182 (The Writer's Notebook); RR673 and RR674 (My Word Journal); AA185 and AA186 (Mi Diario de Palabras); RR630 and RR631 (Draw & Write Journal); AA786 and AA787 (My First Draw & Write Journal); AA181 and AA182 (My Picture Word Journal); GG324 and GG325 (Writing Prompts Journal); EE441 and EE442 (Daily Math Practice Journal Grades 1 - 3); EE443 and EE444 (Daily Math Practice Journal Grades 4 - 6); EE651 and EE652 (Daily Language Practice, Grades 1-3); EE653 and EE654 (Daily Language Practice Journal, Grades 4 - 6), are included within the scope of the antidumping duty order; requested December 7, 2006; initiated May 7, 2007.

Multiple Countries

A-423-808 and C-423-809: Stainless Steel Plate in Coils from Belgium; A-475-822: Stainless Steel Plate in Coils from Italy; A-580-831: Stainless Steel Plate in Coils from South Korea; A-583-830: Stainless Steel Plate in Coils from Taiwan; A-791-805 and C-791-806: Stainless Steel Plate in Coils from South Africa

Requestor: Ugine & ALZ Belgium N.V.; whether stainless steel products with an actual thickness of less than 4.75 mm, regardless of nominal thickness, are within the scope of the antidumping and countervailing duty orders; requested June 8, 2007; initiated July 23, 2007.

A-533-809: Certain Forged Stainless Steel Flanges from India; A-583-821: Certain Forged Stainless Steel Flanges from Taiwan

Requestor: Lokring Technology Corporation; whether certain assemblies comprising stainless steel flanges from India or Taiwan welded to stainless steel “half-bodies” with swage rings, and completed in Canada, are within the scope of the order; requested September 18, 2007.

Anticircumvention Rulings Pending as of September 30, 2007:

People's Republic of China

A-570-001: Potassium Permanganate from the People's Republic of China

Requestor: Specialty Products International, Inc.; whether sodium permanganate is later-developed merchandise that is circumventing the antidumping duty order; requested October 10, 2006.

A-570-868: Folding Metal Tables and Chairs from the People's Republic of China

Requestor: Meco Corporation; whether the common leg table (a folding metal table affixed with cross bars that enable the legs to fold in pairs) produced in the PRC is a minor alteration that circumvents the antidumping duty order; requested October 31, 2005; initiated June 1, 2006.

A-570-894: Certain Tissue Paper Products from the People's Republic of China

Requestor: Seaman Paper Company; whether imports of tissue paper from Vietnam made out of jumbo rolls of tissue paper from the PRC are circumventing the antidumping duty order; requested July 19, 2006; initiated September 5, 2006.

Interested parties are invited to comment on the completeness of this list of pending scope and anticircumvention inquiries. Any comments should be submitted to the Deputy Assistant Secretary for D/CVD Operations, Import Administration, International Trade Administration, 14th Street and Constitution Avenue, N.W., Room 1870, Washington, DC 20230.

This notice is published in accordance with 19 C.F.R. 351.225(o).

Dated: October 25, 2007.
Stephen J. Claeys,
Deputy Assistant Secretary for Import Administration.

[FR Doc. E7-21707 Filed 11-2-07; 8:45 am]

BILLING CODE 3510-DS-S